DEPARTMENT OF HEALTH AND HUMAN SERVICES

Food and Drug Administration

[Docket No. FDA-2009-N-0393]

Acrylamide in Food; Request for Comments and for Scientific Data and Information; Extension of Comment Period

AGENCY: Food and Drug Administration, HHS.

ACTION: Notice; request for comments and scientific data and information; extension of comment period.

SUMMARY: The Food and Drug Administration (FDA) is extending to January 25, 2010, the comment period for the notice entitled “Acrylamide in Food; Request for Comments and for Scientific Data and Information,” that appeared in the Federal Register of August 26, 2009 (74 FR 43134). In the notice, FDA requested comments and scientific data and information on acrylamide in food. The agency is taking this action in response to a request for an extension to allow interested persons additional time to submit comments.

DATES: Submit written or electronic comments by January 25, 2010.

ADDRESSES: Submit electronic comments and scientific data and information to http://www.regulations.gov. Submit written comments and scientific data and information to the Division of Dockets Management (HFA-305), Food and Drug Administration, 5630 Fishers Lane, rm. 1061, Rockville, MD 20852.

FOR FURTHER INFORMATION CONTACT: Lauren Posnick Robin, Center for Food Safety and Applied Nutrition (HFS-317), Food and Drug Administration, 5100 Paint Branch Pkwy., College Park, MD 20740, 301-436-1639.

SUPPLEMENTARY INFORMATION:

I. Background

In the Federal Register of August 26, 2009 (74 FR 43134), FDA published a notice with a 90-day comment period to request comments and scientific data and information on acrylamide in food. Comments on practices that manufacturers have used to reduce acrylamide in food and the reductions they have been able to achieve in acrylamide levels will assist in FDA's development of guidance for industry on reduction of acrylamide levels in food products, should FDA decide to issue guidance on this topic.

The agency has received a request for a 60-day extension of the comment period for this notice. FDA has considered the request and is extending the comment period for the notice entitled “Acrylamide in Food; Request for Comments and for Scientific Data and Information,” until January 25, 2010. The agency believes that this extension allows adequate time for interested persons to submit comments without significantly delaying action by the agency.

II. Request for Comments

Interested persons may submit to the Division of Dockets Management (see ADDRESSES) electronic or written comments on this document. Submit a single copy of electronic comments or two paper copies of any mailed comments, except that individuals may submit one paper copy. Comments are to be identified with the docket number found in brackets in the heading of this document. Received comments may be seen in the Division of Dockets Management between 9 a.m. and 4 p.m., Monday through Friday.

Dated: November 10, 2009.
David Horowitz,
Assistant Commissioner for Policy.

[FR Doc. E9-27692 Filed 11-17-09; 8:45 am]

BILLING CODE 4160-01-S